NATIONAL SCIENCE FOUNDATION

Submission for OMB Review; Comment Request Survey of Principal Investigators on Earthquake Engineering Research Awards Made by the National Science Foundation, 2003-2009

SUMMARY: Under the provisions of Section 3507(a)(1)(D) of the Paperwork Reduction Act of 1995, the National Science Foundation has submitted to the Office of Management and Budget (OMB) a request to review and approve the information collection listed below. This proposed information collection was previously published in the Federal Register on October 22, 2010 (volume 75, number 204, page 65385) and allowed 60-days for public comment. No comments were received from members of the public. The purpose of this notice is to allow an additional 30 days for public comment.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Comments: Written comments and/or suggestions regarding the item(s) contained in this notice, especially regarding the estimated public burden and associated response time, should be directed to the: Office of Management and Budget, Office of Regulatory Affairs, OIRA_submission@omb.eop.gov or by fax to 202-395-6974, Attention: Desk Officer for NSF. To request more information on the proposed project or to obtain a copy of the data collection plans and instruments, contact Dr. Joy Pauschke, National Science Foundation, Suite 545, 4201 Wilson Blvd, Arlington, VA, 22230, or call non-toll-free number 703-292-8360, or e-mail your request, including your address to: jpauschk@nsf.gov.

Comments Due Date: Comments regarding this information collection are best assured of having their full effect if received within 30 days of the date of this publication. NSF may not conduct or sponsor a collection of information unless the collection of information displays a currently valid OMB control number and the agency informs potential persons who are to respond to the collection of information that such persons are not required to respond to the collection of information unless it displays a currently valid OMB control number.

Proposed Collection: Title: Survey of Principal Investigators on Earthquake Engineering Research Awards Made by the National Science Foundation, 2003-2009. Type of Information Collection Request: New collection. Need and Use of Information Collection: At the end of fiscal year 2014, NSF will have completed ten years of support for operations and research of the George E. Brown, Jr. Network for Earthquake Engineering Simulation (NEES). The purpose of the proposed information collection is to inform decision making about the need for multi-user earthquake engineering research infrastructure beyond 2014. The proposed data collection will consist of a survey of Principal Investigators on NSF earthquake engineering research awards, including but not limited to research awards made by the NEES program to facilitate use of the NEES network and infrastructure. Categories of information to be collected from these individuals include: (1) Novelty of research questions and approach; (2) access to and use of specific types of research infrastructure (including those provided by the NEES network); (3) incorporation of education, outreach, and training activities; (4) number and diversity of participants in funded research activities; and (5) outputs and outcomes of funded research activities. Frequency of Response: Once. Affected Public: Individuals. Type of Respondents: NSF grantees. The annual reporting burden is as follows: Estimated Number of Respondents: 194 per year. Estimated Number of Responses per Respondent: 1. Average Burden Hours Per Response: 0.5. Estimated Total Annual Burden Hours Requested: 97. The annualized cost to respondents is estimated at: $3,777. There are no Capital Costs to report. There are no Operating or Maintenance Costs to report.

Dated: February 28, 2011.
Suzanne H. Plimpton,
Reports Clearance Officer, National Science Foundation.

[FR Doc. 2011-4772 Filed 3-2-11; 8:45 am]

BILLING CODE 7555-01-P